DEPARTMENT OF HEALTH AND HUMAN SERVICES

Food and Drug Administration

Advisory Committee; Renewals

AGENCY: Food and Drug Administration, HHS.

ACTION: Notice.

SUMMARY: The Food and Drug Administration (FDA) is announcing the renewal of certain FDA advisory committees by the Commissioner of Food and Drugs (the Commissioner). The Commissioner has determined that it is in the public interest to renew the charters of the committees listed in table 1 of this document for an additional 2 years beyond charter expiration date. The new charters will be in effect until the dates of expiration listed in table 1. This notice is issued under the Federal Advisory Committee Act of October 6, 1972 (Public Law 92-463 (5 U.S.C. app. 2)).

DATES: Authority for these committees will expire on the dates indicated in table 1 of this document unless the Commissioner formally determines that renewal is in the public interest.

Table 1.
Name of committee | Date of expiration
Anesthetic and Life Support Drugs Advisory Committee | May 1, 2006.
Blood Products Advisory Committee | May 13, 2006.
Pulmonary-Allergy Drugs Advisory Committee | May 30, 2006.
Drug Safety and Risk Management Advisory Committee | May 31, 2006.
Science Advisory Board to the National Center for Toxicological Research | June 2, 2006.
Peripheral and Central Nervous System Drugs Advisory Committee | June 4, 2006.
Psychopharmacologic Drugs Advisory Committee | June 4, 2006.
Transmissible Spongiform Encephalopathies Advisory Committee | June 9, 2006.
Science Board to the Food and Drug Administration | June 26, 2006.
Allergenic Products Advisory Committee | July 9, 2006.
Cardiovascular and Renal Drugs Advisory Committee | August 27, 2006.
Endocrinologic and Metabolic Drugs Advisory Committee | August 27, 2006.
Oncologic Drugs Advisory Committee | September 1, 2006.
Anti-Infective Drugs Advisory Committee | October 7, 2006.
Dermatologic and Ophthalmic Drugs Advisory Committee | October 7, 2006.
Cellular, Tissue, and Gene Therapies Advisory Committee (formerly Biological Response Modifiers Advisory Committee) | October 28, 2006.

FOR FURTHER INFORMATION CONTACT: Linda A. Sherman, Advisory Committee Oversight and Management Staff (HF-4), Food and Drug Administration, 5600 Fishers Lane, Rockville, MD 20857, 301-827-1220.

Dated: October 29, 2004.
Sheila Dearybury Walcoff,
Associate Commissioner for External Relations.

[FR Doc. 04-24842 Filed 11-5-04; 8:45 am]

BILLING CODE 4160-01-S